DEPARTMENT OF TRANSPORTATION

Federal Aviation Administration

14 CFR Part 97

[Docket No. 30948; Amdt. No. 3582]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 25, 2014. The compliance date for each SIAP, associated Takeoff Minimums, and ODP is specified in the amendatory provisions.

The incorporation by reference of certain publications listed in the regulations is approved by the Director of the Federal Register as of March 25, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on February 28, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
4/3/2014 | OK | Pryor | Mid-America Industrial | 4/4127 | 02/10/14 | This NOTAM published in TL 14-07, is hereby rescinded in its entirety.
4/3/2014 | MT | Great Falls | Great Falls Intl | 4/0254 | 2/27/14 | ILS OR LOC/DME RWY 3, ILS RWY 3 (SA CAT I), ILS RWY 3 (CAT II & III), Amdt 5.
4/3/2014 | MD | Baltimore | Martin State | 4/2135 | 02/19/14 | VOR/DME OR TACAN Z RWY 15, Orig.
4/3/2014 | NJ | Newark | Newark Liberty Intl | 4/2155 | 02/19/14 | COPTER ILS/DME RWY 22L, Orig-B.
4/3/2014 | TN | Nashville | Nashville Intl | 4/2852 | 02/14/14 | VOR/DME RWY 13, Amdt 13B.
4/3/2014 | TX | College Station | Easterwood Field | 4/4178 | 02/13/14 | VOR OR TACAN RWY 10, Amdt 19A.
4/3/2014 | NC | Clinton | Clinton-Sampson County | 4/4644 | 02/12/14 | RNAV (GPS) Y RWY 24, Amdt 1.
4/3/2014 | NC | Clinton | Clinton-Sampson County | 4/4645 | 02/12/14 | LOC RWY 6, Amdt 3.
4/3/2014 | NC | Clinton | Clinton-Sampson County | 4/4648 | 02/12/14 | RNAV (GPS) RWY 6, Amdt 2.
4/3/2014 | NC | Clinton | Clinton-Sampson County | 4/4649 | 02/12/14 | VOR/DME A, Amdt 6.
4/3/2014 | FL | Brooksville | Hernando County | 4/4682 | 02/13/14 | RNAV (GPS) RWY 21, Amdt 1B.
4/3/2014 | TN | Trenton | Gibson County | 4/4965 | 02/13/14 | RNAV (GPS) RWY 19, Orig.
4/3/2014 | TN | Trenton | Gibson County | 4/4966 | 02/13/14 | VOR/DME A, Amdt 6.
4/3/2014 | TN | Trenton | Gibson County | 4/4967 | 02/13/14 | RNAV (GPS) RWY 1, Orig.
4/3/2014 | MD | Easton | Easton/Newnam Field | 4/5001 | 02/13/14 | RNAV (GPS) RWY 22, Amdt 1.
4/3/2014 | MD | Easton | Easton/Newnam Field | 4/5002 | 02/13/14 | RNAV (GPS) RWY 33, Orig.
4/3/2014 | MD | Easton | Easton/Newnam Field | 4/5003 | 02/13/14 | RNAV (GPS) RWY 4, Orig.
4/3/2014 | MD | Easton | Easton/Newnam Field | 4/5005 | 02/13/14 | RNAV (GPS) RWY 15, Orig.
4/3/2014 | MD | Easton | Easton/Newnam Field | 4/5006 | 02/13/14 | ILS OR LOC/DME RWY 4, Amdt 1.
4/3/2014 | ME | Lincoln | Lincoln Rgnl | 4/5187 | 02/13/14 | RNAV (GPS) RWY 17, Orig.
4/3/2014 | ME | Lincoln | Lincoln Rgnl | 4/5190 | 02/13/14 | RNAV (GPS) RWY 35, Orig.
4/3/2014 | MS | Starkville | Oktibbeha | 4/5239 | 02/13/14 | Takeoff Minimums and (Obstacle) DP, Orig.
4/3/2014 | DC | Washington | Manassas Rgnl/Harry P. Davis Field | 4/5242 | 02/07/14 | RNAV (GPS) RWY 16R, Amdt 1.
4/3/2014 | SC | Hartsville | Hartsville Rgnl | 4/5253 | 02/12/14 | NDB RWY 21, Amdt 1.
4/3/2014 | SC | Hartsville | Hartsville Rgnl | 4/5254 | 02/12/14 | RNAV (GPS) RWY 21, Orig-A.
4/3/2014 | SC | Hartsville | Hartsville Rgnl | 4/5255 | 02/12/14 | NDB RWY 3, Amdt 1.
4/3/2014 | SC | Hartsville | Hartsville Rgnl | 4/5256 | 02/12/14 | RNAV (GPS) RWY 3, Orig-A.
4/3/2014 | PA | Allentown | Allentown Queen City Muni | 4/5291 | 02/13/14 | VOR B, Amdt 8A.
4/3/2014 | PA | Allentown | Allentown Queen City Muni | 4/5292 | 02/13/14 | RNAV (GPS) RWY 7, Amdt 1A.
4/3/2014 | PA | Reading | Reading Rgnl/Carl A Spaatz Field | 4/5561 | 02/13/14 | RNAV (GPS) RWY 36, Orig.
4/3/2014 | PA | Reading | Reading Rgnl/Carl A Spaatz Field | 4/5562 | 02/13/14 | ILS OR LOC RWY 36, Amdt 30A.
4/3/2014 | PA | Reading | Reading Rgnl/Carl A Spaatz Field | 4/5563 | 02/13/14 | ILS OR LOC RWY 13, Amdt 1A.
4/3/2014 | ME | Eastport | Eastport Muni | 4/5832 | 02/12/14 | RNAV (GPS) RWY 33, Orig.
4/3/2014 | ME | Eastport | Eastport Muni | 4/5833 | 02/12/14 | NDB RWY 33, Amdt 1.
4/3/2014 | ME | Eastport | Eastport Muni | 4/5834 | 02/12/14 | NDB RWY 15, Amdt 1.
4/3/2014 | ME | Eastport | Eastport Muni | 4/5835 | 02/12/14 | RNAV (GPS) RWY 15, Orig.
4/3/2014 | PA | Shamokin | Northumberland County | 4/5838 | 02/13/14 | VOR RWY 8, Amdt 3B.
4/3/2014 | PA | Shamokin | Northumberland County | 4/5839 | 02/13/14 | RNAV (GPS) RWY 26, Orig.
4/3/2014 | PA | Shamokin | Northumberland County | 4/5840 | 02/13/14 | RNAV (GPS) RWY 8, Orig-A.
4/3/2014 | MN | Willmar | Willmar Muni-John L Rice Field | 4/5859 | 02/14/14 | VOR RWY 31, Orig.
4/3/2014 | MA | Plymouth | Plymouth Muni | 4/5886 | 02/13/14 | ILS OR LOC/DME RWY 6, Amdt 1B.
4/3/2014 | MA | Plymouth | Plymouth Muni | 4/5887 | 02/13/14 | RNAV (GPS) RWY 6, Amdt 1.
4/3/2014 | NJ | Old Bridge | Old Bridge | 4/5891 | 02/13/14 | RNAV (GPS) RWY 6, Orig.
4/3/2014 | NJ | Old Bridge | Old Bridge | 4/5892 | 02/13/14 | VOR RWY 24, Amdt 4.
4/3/2014 | NJ | Old Bridge | Old Bridge | 4/5893 | 02/13/14 | RNAV (GPS) RWY 24, Orig.
4/3/2014 | GA | Fort Stewart (Hinesville) | Wright AAF (Fort Stewart)/Midcoast Rgnl | 4/5894 | 02/19/14 | NDB RWY 33R, Orig.
4/3/2014 | GA | Fort Stewart (Hinesville) | Wright AAF (Fort Stewart)/Midcoast Rgnl | 4/5895 | 02/19/14 | RNAV (GPS) RWY 33R, Orig.
4/3/2014 | MS | Meridian | Key Field | 4/5911 | 02/13/14 | ILS OR LOC RWY 19, Amdt 1A.
4/3/2014 | FL | Fort Myers | Page Field | 4/6069 | 02/12/14 | RNAV (GPS) RWY 13, Amdt 1A.
4/3/2014 | FL | Fort Myers | Page Field | 4/6070 | 02/12/14 | VOR RWY 13, Orig-C.
4/3/2014 | FL | Fort Myers | Page Field | 4/6071 | 02/12/14 | ILS OR LOC RWY 5, Amdt 7.
4/3/2014 | FL | Fort Myers | Page Field | 4/6072 | 02/12/14 | RNAV (GPS) RWY 23, Orig.
4/3/2014 | FL | Fort Myers | Page Field | 4/6076 | 02/12/14 | RNAV (GPS) RWY 5, Orig.
4/3/2014 | FL | Fort Myers | Page Field | 4/6078 | 02/12/14 | RNAV (GPS) RWY 31, Orig.
4/3/2014 | IA | Fort Dodge | Fort Dodge Rgnl | 4/6186 | 02/21/14 | RNAV (GPS) RWY 30, Amdt 1.
4/3/2014 | IA | Fort Dodge | Fort Dodge Rgnl | 4/6189 | 02/21/14 | ILS OR LOC RWY 6, Amdt 7B.
4/3/2014 | IA | Fort Dodge | Fort Dodge Rgnl | 4/6190 | 02/21/14 | RNAV (GPS) RWY 6, Amdt 1.
4/3/2014 | MI | Kalamazoo | Kalamazoo/Battle Creek Intl | 4/6209 | 02/13/14 | NDB RWY 35, Amdt 19A.
4/3/2014 | MI | Kalamazoo | Kalamazoo/Battle Creek Intl | 4/6210 | 02/13/14 | RNAV (GPS) RWY 35, Orig-A.
4/3/2014 | MI | Kalamazoo | Kalamazoo/Battle Creek Intl | 4/6211 | 02/13/14 | RADAR-1, Amdt 9A.
4/3/2014 | MI | Kalamazoo | Kalamazoo/Battle Creek Intl | 4/6212 | 02/13/14 | VOR RWY 35, Amdt 17A.
4/3/2014 | MI | Kalamazoo | Kalamazoo/Battle Creek Intl | 4/6213 | 02/13/14 | VOR RWY 23, Amdt 17.
4/3/2014 | MI | Kalamazoo | Kalamazoo/Battle Creek Intl | 4/6214 | 02/13/14 | ILS OR LOC RWY 35, Amdt 22B.
4/3/2014 | MI | Kalamazoo | Kalamazoo/Battle Creek Intl | 4/6215 | 02/13/14 | VOR RWY 5, Orig-B.
4/3/2014 | MI | Kalamazoo | Kalamazoo/Battle Creek Intl | 4/6216 | 02/13/14 | VOR RWY 17, Amdt 18A.
4/3/2014 | AL | Prattville | Prattville—Grouby Field | 4/6235 | 02/13/14 | RNAV (GPS) RWY 27, Orig.
4/3/2014 | AL | Prattville | Prattville—Grouby Field | 4/6236 | 02/13/14 | VOR/DME A, Amdt 3.
4/3/2014 | AL | Prattville | Prattville—Grouby Field | 4/6237 | 02/13/14 | RNAV (GPS) RWY 9, Amdt 2A.
4/3/2014 | OH | Dayton | James M Cox Dayton Intl | 4/6344 | 02/13/14 | ILS OR LOC RWY 24R, Amdt 9A.
4/3/2014 | TN | Bristol/Johnson/Kingsport | Tri-Cities Rgnl TN/VA | 4/6345 | 02/14/14 | ILS OR LOC RWY 23, ILS RWY 23 (CAT II), Amdt 24E.
4/3/2014 | AL | Fayette | Richard Arthur Field | 4/6346 | 02/13/14 | RNAV (GPS) RWY 36, Amdt 1.
4/3/2014 | AL | Fayette | Richard Arthur Field | 4/6347 | 02/13/14 | RNAV (GPS) RWY 18, Amdt 1.
4/3/2014 | PA | Beaver Falls | Beaver County | 4/6348 | 02/12/14 | LOC RWY 10, Amdt 4.
4/3/2014 | PA | Beaver Falls | Beaver County | 4/6349 | 02/12/14 | RNAV (GPS) RWY 10, Orig.
4/3/2014 | PA | Beaver Falls | Beaver County | 4/6350 | 02/12/14 | RNAV (GPS) RWY 28, Orig.
4/3/2014 | PA | Beaver Falls | Beaver County | 4/6371 | 02/12/14 | VOR RWY 28, Amdt 10.
4/3/2014 | FL | Daytona Beach | Daytona Beach Intl | 4/6927 | 02/14/14 | RNAV (GPS) RWY 7R, Orig-C.
4/3/2014 | FL | Daytona Beach | Daytona Beach Intl | 4/6928 | 02/14/14 | RNAV (GPS) RWY 34, Amdt 2B.
4/3/2014 | FL | Daytona Beach | Daytona Beach Intl | 4/6929 | 02/14/14 | ILS OR LOC RWY 7L, Amdt 31.
4/3/2014 | FL | Daytona Beach | Daytona Beach Intl | 4/6930 | 02/14/14 | RNAV (GPS) RWY 7L, Amdt 1.
4/3/2014 | FL | Daytona Beach | Daytona Beach Intl | 4/6931 | 02/14/14 | RNAV (GPS) RWY 25R, Amdt 3.
4/3/2014 | FL | Daytona Beach | Daytona Beach Intl | 4/6932 | 02/14/14 | VOR RWY 16, Amdt 18A.
4/3/2014 | FL | Daytona Beach | Daytona Beach Intl | 4/6933 | 02/14/14 | ILS OR LOC RWY 25R, Orig.
4/3/2014 | FL | Daytona Beach | Daytona Beach Intl | 4/6934 | 02/14/14 | RNAV (GPS) RWY 16, Amdt 1A.
4/3/2014 | FL | Daytona Beach | Daytona Beach Intl | 4/6935 | 02/14/14 | RNAV (GPS) RWY 25L, Amdt 1.
4/3/2014 | PA | Bradford | Bradford Rgnl | 4/7013 | 02/13/14 | RNAV (GPS) RWY 32, Amdt 1A.
4/3/2014 | MD | Ocean City | Ocean City Muni | 4/7116 | 02/12/14 | VOR A, Amdt 3.
4/3/2014 | MD | Ocean City | Ocean City Muni | 4/7117 | 02/12/14 | RNAV (GPS) RWY 32, Orig.
4/3/2014 | MD | Ocean City | Ocean City Muni | 4/7119 | 02/12/14 | LOC RWY 14, Amdt 2.
4/3/2014 | MD | Ocean City | Ocean City Muni | 4/7120 | 02/12/14 | RNAV (GPS) RWY 2, Orig.
4/3/2014 | TX | Waco | TSTC Waco | 4/7183 | 02/14/14 | RNAV (GPS) RWY 35R, Amdt 1.
4/3/2014 | IN | Anderson | Anderson Muni-Darlington Field | 4/7383 | 02/21/14 | RNAV (GPS) RWY 30, Orig.
4/3/2014 | IN | Anderson | Anderson Muni-Darlington Field | 4/7384 | 02/21/14 | VOR A, Amdt 9.
4/3/2014 | IN | Anderson | Anderson Muni-Darlington Field | 4/7385 | 02/21/14 | NDB RWY 30, Amdt 6.
4/3/2014 | IN | Anderson | Anderson Muni-Darlington Field | 4/7386 | 02/21/14 | ILS OR LOC RWY 30, Amdt 1.
4/3/2014 | OH | Ashtabula | Northeast Ohio Rgnl | 4/7388 | 02/21/14 | VOR RWY 9, Orig-B.
4/3/2014 | OH | Ashtabula | Northeast Ohio Rgnl | 4/7389 | 02/21/14 | RNAV (GPS) RWY 27, Orig-A.
4/3/2014 | OH | Ashtabula | Northeast Ohio Rgnl | 4/7390 | 02/21/14 | RNAV (GPS) RWY 9, Orig-A.
4/3/2014 | OH | Ashtabula | Northeast Ohio Rgnl | 4/7393 | 02/21/14 | VOR/DME RWY 27, Amdt 6B.
4/3/2014 | TX | Cleburne | Cleburne Rgnl | 4/7406 | 02/13/14 | LOC/DME RWY 15, Orig-C.
4/3/2014 | TX | Corsicana | C David Campbell Field-Corsicana Muni | 4/7407 | 02/14/14 | NDB RWY 32, Amdt 3A.
4/3/2014 | TX | Corsicana | C David Campbell Field-Corsicana Muni | 4/7408 | 02/14/14 | NDB RWY 14, Amdt 4A.
4/3/2014 | TX | Corsicana | C David Campbell Field-Corsicana Muni | 4/7409 | 02/14/14 | VOR/DME A, Amdt 1A.
4/3/2014 | VA | South Hill | Mecklenburg-Brunswick Rgnl | 4/7410 | 02/14/14 | LOC RWY 1, Orig-A.
4/3/2014 | TX | Corsicana | C David Campbell Field-Corsicana Muni | 4/7411 | 02/14/14 | VOR/DME B, Amdt 1A.
4/3/2014 | VA | South Hill | Mecklenburg-Brunswick Rgnl | 4/7412 | 02/14/14 | RNAV (GPS) RWY 19, Orig.
4/3/2014 | VA | South Hill | Mecklenburg-Brunswick Rgnl | 4/7413 | 02/14/14 | RNAV (GPS) RWY 1, Orig.
4/3/2014 | MA | Marshfield | Marshfield Muni—George Harlow Field | 4/7418 | 02/14/14 | RNAV (GPS) RWY 6, Orig-A.
4/3/2014 | MA | Marshfield | Marshfield Muni—George Harlow Field | 4/7419 | 02/14/14 | RNAV (GPS) RWY 24, Orig.
4/3/2014 | MA | Marshfield | Marshfield Muni—George Harlow Field | 4/7420 | 02/14/14 | NDB RWY 24, Amdt 2A.
4/3/2014 | MA | Marshfield | Marshfield Muni—George Harlow Field | 4/7421 | 02/14/14 | NDB RWY 6, Amdt 4C.
4/3/2014 | KS | Hutchinson | Hutchinson Muni | 4/7745 | 02/21/14 | ILS OR LOC RWY 13, Amdt 16C.
4/3/2014 | KS | Hutchinson | Hutchinson Muni | 4/7746 | 02/21/14 | NDB RWY 13, Amdt 15A.
4/3/2014 | WI | West Bend | West Bend Muni | 4/7984 | 02/14/14 | RNAV (GPS) RWY 31, Orig.
4/3/2014 | WI | West Bend | West Bend Muni | 4/7985 | 02/14/14 | RNAV (GPS) RWY 13, Orig-A.
4/3/2014 | WI | West Bend | West Bend Muni | 4/7986 | 02/14/14 | RNAV (GPS) RWY 24, Orig.
4/3/2014 | WI | West Bend | West Bend Muni | 4/7987 | 02/14/14 | VOR RWY 24, Amdt 3B.
4/3/2014 | WI | West Bend | West Bend Muni | 4/7988 | 02/14/14 | VOR RWY 13, Amdt 5B.
4/3/2014 | WI | West Bend | West Bend Muni | 4/7989 | 02/14/14 | LOC RWY 31, Orig-C.
4/3/2014 | WI | West Bend | West Bend Muni | 4/7990 | 02/14/14 | RNAV (GPS) RWY 6, Orig-A.
4/3/2014 | FL | West Palm Beach | Palm Beach Intl | 4/7998 | 02/19/14 | ILS OR LOC RWY 28R, Amdt 3.
4/3/2014 | FL | West Palm Beach | Palm Beach Intl | 4/7999 | 02/19/14 | RNAV (GPS) Y RWY 28R, Amdt 2.
4/3/2014 | FL | West Palm Beach | Palm Beach Intl | 4/8000 | 02/19/14 | RNAV (GPS) Y RWY 32, Amdt 2.
4/3/2014 | TN | Covington | Covington Muni | 4/8323 | 02/14/14 | Takeoff Minimums and (Obstacle) DP, Orig.
4/3/2014 | NY | New York | Long Island Mac Arthur | 4/8346 | 02/19/14 | RNAV (GPS) RWY 6, Amdt 1.
4/3/2014 | NY | New York | Long Island Mac Arthur | 4/8347 | 02/19/14 | RNAV (GPS) RWY 33L, Orig.
4/3/2014 | NY | New York | Long Island Mac Arthur | 4/8348 | 02/19/14 | RNAV (GPS) RWY 24, Amdt 1A.
4/3/2014 | NY | New York | Long Island Mac Arthur | 4/8349 | 02/19/14 | ILS OR LOC RWY 24, Amdt 4A.
4/3/2014 | NY | New York | Long Island Mac Arthur | 4/8350 | 02/19/14 | RNAV (GPS) RWY 15R, Orig.
4/3/2014 | ME | Auburn/Lewiston | Auburn/Lewiston Muni | 4/8497 | 02/19/14 | VOR/DME A, Amdt 1.
4/3/2014 | ME | Auburn/Lewiston | Auburn/Lewiston Muni | 4/8498 | 02/19/14 | RNAV (GPS) RWY 22, Amdt 1.
4/3/2014 | GA | Dublin | W H ‘Bud' Barron | 4/8502 | 02/21/14 | RNAV (GPS) RWY 2, Orig.
4/3/2014 | GA | Dublin | W H ‘Bud' Barron | 4/8504 | 02/21/14 | RNAV (GPS) RWY 20, Orig.
4/3/2014 | GA | Dublin | W H “Bud' Barron | 4/8505 | 02/21/14 | ILS OR LOC RWY 2, Amdt 2A.
4/3/2014 | GA | Fort Stewart (Hinesville) | Wright AAF (Fort Stewart)/Midcoast Rgnl | 4/8873 | 02/19/14 | RNAV (GPS) RWY 6L, Orig.
4/3/2014 | PA | Lancaster | Lancaster | 4/8874 | 02/21/14 | VOR/DME RWY 31, Amdt 4A.
4/3/2014 | PA | Lancaster | Lancaster | 4/8875 | 02/21/14 | VOR RWY 31, Amdt 16.
4/3/2014 | PA | Lancaster | Lancaster | 4/8876 | 02/21/14 | VOR/DME RWY 26, Amdt 10.
4/3/2014 | PA | Lancaster | Lancaster | 4/8877 | 02/21/14 | VOR/DME RWY 8, Amdt 6.
4/3/2014 | PA | Lancaster | Lancaster | 4/8878 | 02/21/14 | VOR RWY 8, Amdt 21.
4/3/2014 | MD | Ocean City | Ocean City Muni | 4/9173 | 02/18/14 | RNAV (GPS) RWY 14, Orig-D.
4/3/2014 | MD | Cumberland | Greater Cumberland Rgnl | 4/9215 | 02/21/14 | RNAV (GPS) RWY 23, Orig-A.
4/3/2014 | MD | Cumberland | Greater Cumberland Rgnl | 4/9216 | 02/21/14 | LOC/DME RWY 23, Amdt 6B.
4/3/2014 | MD | Cumberland | Greater Cumberland Rgnl | 4/9217 | 02/21/14 | LOC A, Amdt 4.
4/3/2014 | MI | Ann Arbor | Ann Arbor Muni | 4/9257 | 02/21/14 | RNAV (GPS) RWY 24, Amdt 2A.
4/3/2014 | NH | Lebanon | Lebanon Muni | 4/9258 | 02/21/14 | RNAV (GPS) RWY 36, Orig.
4/3/2014 | NH | Lebanon | Lebanon Muni | 4/9259 | 02/21/14 | RNAV (GPS) RWY 25, Orig.
4/3/2014 | NH | Lebanon | Lebanon Muni | 4/9260 | 02/21/14 | VOR/DME RWY 7, Amdt 1B.
4/3/2014 | NH | Lebanon | Lebanon Muni | 4/9262 | 02/21/14 | VOR RWY 25, Amdt 1.
4/3/2014 | NH | Lebanon | Lebanon Muni | 4/9263 | 02/21/14 | RNAV (GPS) RWY 7, Orig-B.
4/3/2014 | NH | Lebanon | Lebanon Muni | 4/9264 | 02/21/14 | RNAV (GPS) RWY 18, Orig.

[FR Doc. 2014-06263 Filed 3-24-14; 8:45 am]

BILLING CODE 4910-13-P